DEPARTMENT OF LABOR

Occupational Safety and Health Administration

[Docket No. OSHA-2011-0059]

Occupational Exposure to Hazardous Chemicals in Laboratories; Extension of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements specified in the Occupational Exposure to Hazardous Chemicals in Laboratories.

DATES: Comments must be submitted (postmarked, sent, or received) by April 15, 2025.

ADDRESSES:

Electronically: You may submit comments and attachments electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the websites. All submissions, including copyrighted material, are available for inspection through the OSHA Docket Office. Contact the OSHA Docket Office at (202) 693-2350 (TTY (877) 889-5627) for assistance in locating docket submissions.

Instructions: All submissions must include the agency name and OSHA docket number (OSHA-2011-0059 for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Seleda Perryman, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

The following sections describe who uses the information collected under each requirement, as well as how they use it. The following sections describe who uses the information collected under each requirement, as well as how they use it. The purpose of these requirements is to reduce employees' risk of death or serious injury by ensuring that employment has been tested and is in safe operating condition.

The Standard entitled “Occupational Exposure to Hazardous Chemicals in Laboratories” (29 CFR 1910.1450; the “Standard”) applies to laboratories that use hazardous chemicals in accord with the Standard's definitions for “laboratory use of hazardous chemicals” and “laboratory scale.” The Standard requires these laboratories to maintain worker exposures at or below the permissible exposure limits specified for the hazardous chemicals in 29 CFR part 1910, subpart Z. The laboratories do so by developing a written Chemical Hygiene Plan (CHP) that describes the following: standard operating procedures for using hazardous chemicals; hazard-control techniques; equipment-reliability measures; worker information and training programs; conditions under which the employer must approve operations, procedures, and activities before implementation; and medical consultations and examinations. The CHP also designates personnel responsible for implementing the CHP and specifies the procedures to be used to provide additional protection to workers exposed to particularly hazardous chemicals.

Other information collection requirements of the Standard include: documenting exposure monitoring results; notifying workers in writing of these results; presenting specified information and training to workers; establishing a medical surveillance program for overexposed workers; providing required information to the physician; obtaining the physician's written opinion on using proper respiratory equipment; and establishing, maintaining, transferring, and disclosing exposure monitoring and medical records. These collection of information requirements, including the CHP, control worker overexposure to hazardous laboratory chemicals, thereby preventing serious illnesses and death among workers exposed to such chemicals.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

OSHA is requesting that OMB extend the approval of the information collection requirements contained in Occupational Exposure to Hazardous Chemicals in Laboratories. The agency is requesting to decrease the current burden hour estimate from 622,482 to 602,594 hours, a total decrease of 19,888 hours. Although there was an increase in the worker and establishment estimates, we discovered a calculation error that created an overestimate of the burden hours in the last request for clearance. The error is corrected under this request and therefore created a decrease in the burden hours. Additionally, the capital cost estimate has decreased from $83,566,611 to $42,357,006, a total decrease of $41,209,605. This decrease is a result of a decrease in the medical consultation and medical examination price estimates used for this analysis, reflecting an updated method of deriving these prices.

OSHA will summarize the comments submitted in response to this notice and will include this summary in the request to OMB to extend the approval of the information collection requirements.

Type of Review: Extension of a currently approved collection.

Title: Occupational Exposure to Hazardous Chemicals in Laboratories.

OMB Control Number: 1218-0131.

Affected Public: Business or other for-profits.

Number of Respondents: 125,636.

Number of Responses: 2,009,466.

Frequency of Responses: On occasion.

Average Time per Response: Varies.

Estimated Total Burden Hours: 602,594.

Estimated Cost (Operation and Maintenance): $42,357,006.

IV. Public Participation—Submission of Comments on This Notice and Internet Access to Comments and Submissions

You may submit comments in response to this document as follows: (1) electronically at https://www.regulations.gov, which is the Federal eRulemaking Portal; or (2) by facsimile (fax), if your comments, including attachments, are not longer than 10 pages you may fax them to the OSHA Docket Office at (202) 693-1648. All comments, attachments, and other material must identify the agency name and the OSHA docket number for the ICR OSHA-2011-0059. You may supplement electronic submission by uploading document files electronically.

Comments and submissions are posted without change at https://www.regulations.gov. Therefore, OSHA cautions commenters about submitting personal information such as social security numbers and dates of birth. Although all submissions are listed in the https://www.regulations.gov index, some information (e.g., copyrighted material) is not publicly available to read or download from this website. All submission, including copyrighted material, are available for inspection and copying at the OSHA Docket Office. Information on using the https://www.regulations.gov website to submit comments and access the docket is available at the website's “User Tips” link. Contact the OSHA Docket Office at (202) 693-2350, (TTY (877) 889-5627) for information about materials not available from the website, and for assistance in using the internet to locate docket submissions.

V. Authority and Signature

Scott C. Ketcham, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC.
Scott C. Ketcham,
Deputy Assistant Secretary of Labor for Occupational Safety and Health.

[FR Doc. 2025-02642 Filed 2-13-25; 8:45 am]

BILLING CODE 4510-26-P